COMMITTEE FOR PURCHASE FROM PEOPLE WHO ARE BLIND OR SEVERELY DISABLED

Procurement List; Additions

AGENCY: Committee for Purchase from People Who Are Blind or Severely Disabled.

ACTION: Additions to procurement list.

SUMMARY: This action adds to the Procurement List services to be furnished by nonprofit agencies employing persons who are blind or have other severe disabilities.

EFFECTIVE DATE: June 8, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On January 10, March 14, and March 21, 2003, the Committee for Purchase From People Who Are Blind or Severely Disabled published notice (68 F.R.1434, 12340, and 13895) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

Accordingly, the following services are added to the Procurement List:

Services

Service Type/Location: Administrative, Mail/Messenger and Warehouse Service, Federal Highway Administration, Eastern Federal Lands Highway Division, Sterling, Virginia

NPA: Anchor Mental Health Association (Anchor Services Workshop), Washington, DC

Contract Activity: Federal Highway Administration, Sterling, Virginia

Service Type/Location: Custodial Service, Naval Air Facility, Camp Springs, Maryland, Naval Research Laboratory, Washington, DC, Washington Navy Yard, Anacostia Annex (ANA), Washington, DC, Washington Navy Yard, Washington, DC

NPA: Melwood Horticultural Training Center, Upper Marlboro, Maryland

Contract Activity: Engineering Field Activity Chesapeake, Washington Navy Yard, DC

Service Type/Location: Janitorial/Custodial, USCG, Sandy Hook Detachment, Highlands, New Jersey

NPA: Monmouth Center for Vocational Rehabilitation, Eatontown, New Jersey

Contract Activity: USCG Activities New York, Staten Island, New York

This action does not affect current contracts awarded prior to the effective date of this addition or options that may be exercised under those contracts.

Sheryl D. Kennerly,
Director, Information Management.

[FR Doc. 03-11593 Filed 5-8-03; 8:45 am]

BILLING CODE 6353-01-P